DEPARTMENT OF THE TREASURY

Submission for OMB Review; Comment Request

October 16, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 27, 2000 to be assured of consideration.

Bureau of Alcohol, Tobacco and Firearms (BATF)

OMB Number: 1512-0539.

Form Number: None.

Type of Review: Extension.

Title: Statement of Process-Marking of Plastic Explosives for the Purpose of Detection.

Description: The information contained in the statement of process is required to ensure compliance with the provisions of Public Law 104-132. This information will be used to ensure that plastic explosives.

Respondents: Business or other for-profit.

Estimated Number of Respondents: 8.

Estimated Burden Hours Per Respondent: 30 minutes.

Frequency of Response: Quarterly.

Estimated Total Reporting Burden: 16 hours.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Lois K. Holland,
Departmental Reports Management Officer.

[FR Doc. 00-27472 Filed 10-25-00; 8:45 am]

BILLING CODE 4830-01-P